DEPARTMENT OF ENERGY

Federal Energy Regulatory Commission

[Docket No. RP01-596-000]

Questar Pipeline Company; Notice of Tariff Filing and Annual Charge Adjustment

September 13, 2001.

Take notice that on September 7, 2001, Questar Pipeline Company tendered for filing as part of its FERC Gas Tariff, the following tariff sheets to be effective October 1, 2001:

First Revised Volume No. 1

Twenty-First Revised Sheet No. 5

Twelfth Revised Sheet No. 6

Original Volume No. 3

Twenty-Ninth Revised Sheet No. 8

Questar states that this filing incorporates into its storage and transportation rates the annual charge adjustment (ACA) unit rate of $0.00215 per Dth.

Questar states that copies of this filing were served upon Questar's customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed on or before September 20, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23400 Filed 9-19-01; 8:45 am]

BILLING CODE 6717-01-P